DEPARTMENT OF DEFENSE

Office of the Secretary

[Docket ID: DOD-2009-OS-0052]

Privacy Act of 1974; System of Records

AGENCY: Defense Security Service, DoD.

ACTION: Notice to delete a system of records.

SUMMARY: The Defense Security Service proposes to delete a system of records notice from its existing inventory of records systems subject to the Privacy Act of 1974, (5 U.S.C. 552a), as amended.

DATES: This proposed action will be effective without further notice on May 22, 2009 unless comments are received which result in a contrary determination.

ADDRESSES: Defense Security Service, Office of FOIA/PA, 1340 Braddock Place, Alexandria, VA 22314-1651.

FOR FURTHER INFORMATION CONTACT: Mr. Les Blake at (703) 325-9450.

SUPPLEMENTARY INFORMATION: The Defense Security Service systems of records notices subject to the Privacy Act of 1974, (5 U.S.C. 552a), as amended, have been published in the Federal Register and are available from the address above or via the agency Web site (http://www.dss.mil).

The Defense Security Service proposes to delete a system of records notice from its inventory of record systems subject to the Privacy Act of 1974 (5 U.S.C. 552a), as amended. The proposed deletion is not within the purview of subsection (r) of the Privacy Act of 1974, (5 U.S.C. 552a), as amended, which requires the submission of a new or altered system report.

Dated: April 16, 2009.
Morgan E. Frazier,
Alternate OSD Federal Register Liaison Officer, Department of Defense.

V8-02

System name:

Key Contractor Management Personnel Listing (August 17, 1999, 64 FR 44704).

Reason:

The information contained in this system of records has been incorporated into a new centralized Industrial Security Field Database (ISFD) retrieved by the name of the cleared contractor facility or “Cage Code” associated with that facility, rather than by an individual's name or personal identifier. This system of records is being deleted.

[FR Doc. E9-9190 Filed 4-21-09; 8:45 am]

BILLING CODE 5001-06-P